DEPARTMENT OF TRANSPORTATION

Federal Aviation Administration

[Summary Notice No. PE-2001-36]

Petitions for Exemption; Summary of Disposition of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Donald P. Byrne,
Assistant Chief Counsel for Regulations.

Dispositions of Petitions

Docket No.: FAA-2000-8571.

Petitioner: Ryan International Airlines, Inc.

Section of 14 CFR Affected: 14 CFR 25.857(c), 25.858, and 121.314(c).

Description of Relief Sought/Disposition: To permit six Model A320-200 airplanes to operate from March 20, 2001, until April 30, 2001, without being fitted with fire suppression equipment. Denial, 03/02/2001, Exemption No. 7451.

Docket No.: FAA-2001-9233.

Petitioner: Air Charter.

Section of 14 CFR Affected: 14 CFR 135.143(c)(2).

Description of Relief Sought/Disposition: To permit Air Charter to operate certain aircraft under part 135 without a TSO-C112 (Mode S) transponder installed in the aircraft. Grant, 04/25/2001, Exemption No. 7516.

Docket No.: FAA-2001-9227.

Petitioner: TDM, Inc. dba Colgan Air Services.

Section of 14 CFR Affected: 14 CFR 135.143(c)(2).

Description of Relief Sought/Disposition: To permit CAS to operate certain aircraft under part 135 without a TSO-C112 (Mode S) transponder installed in the aircraft. Grant, 04/25/2001, Exemption No. 7515.

Docket No.: FAA-2001-9229.

Petitioner: Trail Ridge Air, Inc.

Section of 14 CFR Affected: 14 CFR 135.143(c)(2).

Description of Relief Sought/Disposition: To permit TRA to operate certain aircraft under part 135 without a TSO-C112 (Mode S) transponder installed in the aircraft. Grant, 04/24/2001, Exemption No. 7514.

Docket No.: FAA-2001-9339.

Petitioner: MOAT, LLC dba Eastern Aviation.

Section of 14 CFR Affected: 14 CFR 135.143(c)(2).

Description of Relief Sought/Disposition: To permit Eastern Aviation to operate certain aircraft under part 135 without a TSO-C112 (Mode S) transponder installed in the aircraft. Grant, 04/25/2001, Exemption No. 7513.

Docket No.: FAA-2000-8419 (previously Docket No. 26478).

Petitioner: U.S. Air Force.

Section of 14 CFR Affected: 14 CFR 91.209(a)(1) and (b).

Description of Relief Sought/Disposition: To permit USAF to conduct counternarcotics aircrew flight training operations in support of drug law enforcement and drug traffic interdiction, without lighted aircraft position or anticollision lights. Grant, 04/19/2001, Exemption No. 5305D.

Docket No.: 30172.

Petitioner: Raytheon Aerospace Support Services.

Section of 14 CFR Affected: 14 CFR 145.61.

Description of Relief Sought/Disposition: To permit Raytheon to perform work on U.S. Customs aircraft without retaining a copy of the records of the work performed. Denial, 04/19/2001, Exemption No. 7511.

[FR Doc. 01-11727 Filed 5-8-01; 8:45 am]

BILLING CODE 4910-13-M